DEPARTMENT OF COMMERCE

International Trade Administration

[A-520-807]

Circular Welded Carbon-Quality Steel Pipe From the United Arab Emirates: Preliminary Results of Antidumping Duty Administrative Review; 2020-2021

Correction

In notice document 2022-28171, appearing on page 79862 through 79865 in the issue of Wednesday, December 28, 2022, make the following correction:

On page 79862, in the heading the docket number should read “A-520-807”.

[FR Doc. C1-2022-28171 Filed 2-2-23; 8:45 am]

BILLING CODE 0099-10-P